NUCLEAR REGULATORY COMMISSION

Request To Amend a License To Import Radioactive Waste

Pursuant to Title 10 of the Code of Federal Regulations (10 CFR) 110.70 (b) “Public Notice of Receipt of an Application,” please take notice that the U.S. Nuclear Regulatory Commission (NRC) has received the following request for an import license amendment. A copy of the request is available electronically through the Agencywide Documents Access and Management System, and can be accessed through the Public Electronic Reading Room link http://www.nrc.gov/reading-rm.html at the NRC Homepage.

A request for a hearing or petition for leave to intervene may be filed within 30 days after publication of this notice in the Federal Register (FR). Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; August 28, 2007. Information about filing electronically is available on the NRC's public Web site at http://www.nrc.gov/site-help/e-submittals.html. To ensure timely electronic filing, at least 5 days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within 30 days after publication of this notice in the Federal Register to Office of the Secretary, U.S. Nuclear Regulatory Commission, Washington, DC 20555, Attention: Rulemaking and Adjudications.

The information concerning this import license amendment application follows.

NRC Import License Application
Name of applicant, date of application, date received, application No., docket No. | Description of material: Material type | Description of material: Total quantity | Description of material: End use | Country from
Perma-Fix Northwest, Inc June 27, 2016 June 29, 2016 IW022/05 11005700 | No change in material (Class A radioactive waste) | No change (not exceed quantity authorized under NRC license IW22/04 [5,500 tons]) | Amend to: (1) Change the licensee's point of contact; (2) change the foreign suppliers name from Atomic Energy of Canada Limited to Canadian Nuclear Laboratories; (3) remove reference to Waste Classification as defined in CFR 61.55 and reference to Table A2 values of 49 CFR 173.435 from the waste description; and (4) change the date of expiration from September 30, 2017 to September 30, 2022 | Canada.

For the Nuclear Regulatory Commission.
Dated this 2nd day of August, 2016, at Rockville, Maryland.
Heather M. Astwood,
Acting Deputy Director, Office of International Programs.

[FR Doc. 2016-18749 Filed 8-5-16; 8:45 am]

BILLING CODE 7590-01-P